DEPARTMENT OF THE INTERIOR

Bureau of Land Management

[17XL1109AF LLUTC03000.L14400000FR0000; UTU-92050]

Notice of Realty Action: Recreation and Public Purposes Act Classification; Washington County, UT

AGENCY: Bureau of Land Management, Interior.

ACTION: Notice of Realty Action.

SUMMARY: The Bureau of Land Management (BLM) has examined and found suitable for classification for lease or conveyance to the City of Santa Clara, Utah, under the provisions of the Recreation and Public Purposes (R&PP) Act, as amended, 52.15 acres of public land located in Washington County, Utah. The City of Santa Clara proposes to develop the land for a park.

DATES: Written comments regarding this proposed classification for lease or conveyance must be postmarked or received no later than May 3, 2018. Comments may be mailed, hand delivered, or faxed. The BLM will not consider comments received via telephone calls or email. Absent any adverse comments, this classification will become effective May 18, 2018.

ADDRESSES: Submit written comments via mail or hand delivery to the BLM, St. George Field Office, Field Manager, 345 E. Riverside Drive, St. George, UT 84790. Fax comments to 435-688-3252.

FOR FURTHER INFORMATION CONTACT: Realty Specialist Teresa Burke by email, tsburke@blm.gov, or by telephone, 435-688-3326. Persons who use a telecommunications device for the deaf may call the Federal Relay Service (FRS) at 1-800-877-8339 to leave a message or question for the above individual. The FRS is available 24 hours a day, seven days a week. You will receive a reply during normal business hours.

SUPPLEMENTARY INFORMATION: The following described public land in Washington County, Utah, was examined and found suitable for classification for lease or conveyance for a park under the provisions of the R&PP Act, as amended (43 U.S.C. 869 et seq.), and 43 CFR 2740:

Salt Lake Meridian, Utah

T. 42 S., R. 16 W.,

Sec. 17, lots 10 and 11;

Sec. 20, lots 4 and 5.

The area described aggregate 52.15 acres.

This classification is in conformance with the St. George Resource Management Plan (RMP), approved in March 1999. The parcel is identified for disposal in the RMP Record of Decision (decision LD-06), and is not needed for any other Federal purpose. Lease or conveyance is consistent with the BLM's planning for the area and is in the public's interest. The BLM analyzed the parcel in a site-specific Environmental Assessment numbered DOI-BLM-UT-C030-2017-0002. A conveyance would be subject to the provisions of the R&PP Act, applicable regulations of the Secretary of the Interior, and the following reservations to the United States, terms and conditions:

1. A right-of-way reservation for ditches or canals constructed by authority of the United States under the Act of August 30, 1890 (43 U.S.C. 945).

2. The conveyance will be subject to all valid existing rights of record.

3. All minerals are reserved to the United States, together with the right to prospect for, mine, and remove the minerals, under applicable laws, and regulations established by the Secretary of the Interior.

4. An indemnification clause protecting the United States from claims arising out of the patentee's use, occupancy, or operation on the land.

5. A limited reversionary provision stating that the title shall revert to the United States upon a finding, after notice and opportunity for a hearing, that the patentee has not substantially developed the lands in accordance with the approved plan of development on or before the date five years after the date of conveyance. No portion of the land shall under any circumstance revert to the United States if any such portion has been used for solid waste disposal, or for any other purpose, which may result in the disposal, placement, or release of any hazardous substance.

6. Any other reservations that the authorized officer determines appropriate to ensure public access and proper management of Federal lands and interests therein.

On publication of this Notice, the above described land will be segregated from all other forms of appropriation under the public land laws, including the general mining laws, except for lease, or conveyance under the R&PP Act and leasing under the mineral leasing laws.

Information concerning the lease/conveyance, including planning and environmental documents are available for review during business hours, 7:30 a.m. to 4:30 p.m., Mountain Time, Monday through Friday, at the BLM, St. George Field Office, except during Federal holidays, or online at https://go.usa.gov/xRpD7.

Classification Comments: Interested parties may submit comments involving the suitability of the land for the proposed facilities. Comments on classification are restricted to whether the land is physically suited for the proposal, whether the use will maximize the future use (or uses) of the land, whether the use is consistent with local planning and zoning, or if the use is consistent with Federal and State programs. Application comments: Interested parties may submit comments regarding the specific use proposed in the application and plan of development and management, and whether the BLM followed proper administrative procedures in reaching the decision to lease and convey under the R&PP Act.

Before including your address, phone number, email address, or other personal identifying information in any comment, be aware that your entire comment including any personal identifying information may be made publicly available at any time. Requests to withhold personal identifying information from public review can be submitted, but the BLM cannot guarantee that it will be able to do so.

Any adverse comments will be reviewed by the BLM State Director or other authorized official of the Department of the Interior, who may sustain, vacate, or modify this realty action. In the absence of any adverse comments, the classification of the land described in this Notice will become effective May 18, 2018.

The land will not be available for lease or conveyance until after the decision becomes effective.

Authority: 43 CFR 2741.5

Edwin L. Roberson,
State Director.

[FR Doc. 2018-05544 Filed 3-16-18; 8:45 am]

BILLING CODE 4310-DQ-P